ENVIRONMENTAL PROTECTION AGENCY

[FRL-6966-2]

Notice of Approval of Prevention of Significant Deterioration (PSD) Permits to Elk Hills Power, LLC. (Permit No. SJ-99-02), Pastoria Energy Facility (Permit No. SJ-99-03), and Blythe Energy Project, LLC (Permit No. SE-00-01)

AGENCY: Environmental Protection Agency (EPA).

ACTION: Notice.

SUMMARY: EPA Region 9 is hereby providing notice that it issued PSD permits to Elk Hills Power, LLC., Pastoria Energy Facility, and Blythe Energy Project, LLC.

The permit (Authority to Construct) for Elk Hills Power, LLC. was issued on February 5, 2001. Since no comments were received during the public comment period and the proposed draft permit conditions were not changed in the final permit, the final permit became effective immediately. This proposed power plant, located about 25 miles west of Bakersfield, California, will have a nominal electrical output of 500 MW and will be fired on locally-produced natural gas from the Elk Hills Oil and Gas Field. The proposed facility is subject to PSD for Nitrogen Oxides (NOX) and Carbon Monoxide (CO). The permit includes the following Best Available Control Technology (BACT) emission limits: NOX at 2.5 ppmvd (based on 1-hour averaging at 15% O2), and 4 ppmvd CO (based on 3-hour averaging at 15% O2). The BACT requirements include use of Selective Catalytic Reduction (SCR) or SCONOX for the control of NOX emissions, and use of catalytic oxidation combined with good combustion design and operation for the control of CO emissions. Continuous emission monitoring is required for NOX, CO and O2. The facility is also subject to New Source Performance Standards, Subparts A and GG, and the Acid Rain program under title IV of the Clean Air Act.

The permit (Authority to Construct) for Pastoria Energy Facility was issued on February 12, 2001. Since no comments were received during the public comment period and the proposed draft permit conditions were not changed in the final permit, the final permit became effective immediately. This proposed power plant is located in the southern part of Kern County, has a rated output of 750 MW, and will be fired on natural gas. The proposed facility is subject to PSD for Nitrogen Oxides ( NOX), Sulfur Oxides (SOX), and CO. The Best Available Control Technology (BACT) requirements include use of XONON Catalytic combustion to meet NOX and CO emission limits. The permit includes the following emission limits: NOX at 2.5 ppmvd (based on 1-hour averaging at 15% O2), and 6 ppmvd CO (based on 3-hour averaging at 15% O2). If XONON is not available, the facility may use Selective Catalytic Reduction (SCR) and also catalytic oxidation combined with good combustion design and operation for the control of CO emissions. The facility is limited to the use of pipeline-quality natural gas to limit SOx emissions. Continuous emission monitoring is required for NOX, CO and opacity and the facility is also subject to New Source Performance Standards, Subparts A and GG, and the Acid Rain program under title IV of the Clean Air Act.

The permit (Authority to Construct) for Blythe Energy Project, LLC was issued on March 5, 2001. Since no comments were received during the public comment period, and the proposed draft permit conditions were not changed in the final permit, the final permit became effective immediately. This proposed power plant, located near the city of Blythe, California, will have a nominal electrical output of 520 MW and will be fired on natural gas. The proposed facility will be subject to PSD for Nitrogen Oxides, Carbon Monoxide, and Particulate Matter (PM10). The permit includes the following Best Available Control Technology (BACT) emission limits: NOX at 2.5 ppmvd (based on 1-hour averaging at 15% O2), 5 ppmvd CO (8.4 ppmvd for loads between 70-80% of full load and during duct firing) (based on 3-hour averaging at 15% O2), and PM10 at 11.5 lbs/hr. The BACT requirements include use of Selective Catalytic Reduction (SCR) for the control of NOX emissions, good combustion control for CO emissions, and a combination of good combustion control and natural gas for the control of PM10 emissions. Continuous emission monitoring is required for NOX, CO and opacity and the facility is also subject to New Source Performance Standards, Subparts A and GG, and the Acid Rain program under title IV of the Clean Air Act.

FOR FURTHER INFORMATION CONTACT: If you have any questions or would like a copy of the permits, please contact Nahid Zoueshtiagh at (415) 744-1261 for Elk Hills; Ed Pike at (415) 744-1211 for Pastoria Energy Facility; or Duong Nguyen at (415) 744-1142 for Blythe. You may also contact us by mail at: Permits Office (Air-3), U.S. Environmental Protection Agency, Region 9, 75 Hawthorne Street, San Francisco, CA 94105.

Judicial Review: No comments were received on the permits for Elk Hills, Pastoria, and Blythe and no appeals were filed concerning these permits before the Environmental Appeals Board pursuant to 40 CFR 124.19.

40 CFR 124.19(f)(2) requires notice of any final agency action regarding a PSD permit to be published in the Federal Register. Section 307(b)(1) of the Clean Air Act provides for review of final agency action that is locally or regionally applicable in the United States Court of Appeals for the appropriate circuit. Such a petition for review of final agency action must be filed within 60 days from the date of notice of such action in the Federal Register. (However, 40 CFR 124.19(f)(1) provides that, for purposes of judicial review under the Clean Air Act, final agency action occurs when a final PSD permit is issued or denied by EPA and agency review procedures are exhausted.)

Dated: April 2, 2001.
Amy K. Zimpfer,
Acting Director, Air Division, Region IX.

[FR Doc. 01-9360 Filed 4-13-01; 8:45 am]

BILLING CODE 6560-50-P